FEDERAL COMMUNICATIONS COMMISSION

Notice of Public Information Collection(s) Being Reviewed by the Federal Communications Commission

July 29, 2002.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning whether the proposed collection of information is necessary for the proper performance of the functions of the Commission, including whether the information shall have practical utility; the accuracy of the Commission's burden estimate; ways to enhance the quality, utility, and clarity of the information collected; and ways to minimize the burden of the collection of information on the respondents, including the use of automated collection techniques or other forms of information technology.

DATES: Written comments should be submitted on or before September 6, 2002. If you anticipate that you will be submitting comments, but find it difficult to do so within the period of time allowed by this notice, you should advise the contact listed below as soon as possible.

ADDRESSES: Direct all comments to Judith Boley Herman, Federal Communications Commission, Room 1-C804, 445 12th Street, SW., DC 20554 or via the Internet to jboley@fcc.gov.

FOR FURTHER INFORMATION CONTACT: For additional information or copies of the information collection(s), contact Judith Boley Herman at 202-418-0214 or via the Internet at jboley@fcc.gov.

SUPPLEMENTARY INFORMATION: OMB Control No.: 3060-0463.

Title: Telecommunications Services for Individuals with Hearing and Speech Disabilities and te American with Disabilities Act of 1990, 47 CFR part 64 (Sections 64.601-64.605).

Form No.: N/A.

Type of Review: Extension of a currently approved collection.

Respondents: Business or other for-profit, and state, local, and tribal government.

Number of Respondents: 5,052.

Estimated Time Per Response: 5.31 hours (average burden per response).

Frequency of Response: On occasion, annual, and ever five year reporting requirements, recordkeeping requirement, and third party disclosure requirement.

Total Annual Burden: 26,831 hours.

Total Annual Cost: N/A.

Needs and Uses: The Commission adopted cost-recovery guidelines to telecommunications relay services (TRS), speech-to-speech relay services (STS), and video relay services (VRS). These guidelines are based, in part, on the recommendation of the Interstate TRS Advisory Council and the TRS Fund Administrator (Advisory Council and Fund Administrator, respectively). In the Further Notice of Proposed Rulemaking that was adopted and released on December 21, 2001, in CC Docket No. 98-67, the Commission solicited comment on the recommendations submitted by the Advisory Council and the Fund Administrator relating to the appropriate permanent cost recovery mechanism for VRS. The Commission is submitting this information collection to extend the OMB to obtain the full three-year approval with no change.

Federal Communications Commission.
Marlene H. Dortch,
Secretary.

[FR Doc. 02-19882 Filed 8-6-02; 8:45 am]

BILLING CODE 6712-01-P